DEPARTMENT OF STATE

[Public Notice 7365]

Bureau of Educational and Cultural Affairs (ECA) Request for Grant Proposals: Global Connections and Exchange Program (GCE)

Announcement Type: New Grant.

Funding Opportunity Number: ECA/PE/C/PY-11-32.

Catalog of Federal Domestic Assistance Number: 19.415.

Application Deadline: May 9, 2011.

Executive Summary

The Youth Programs Division, Office of Citizen Exchanges of the Bureau of Educational and Cultural Affairs announces an open competition for two or three projects under the Global Connections and Exchange Program (GCE) in the following countries worldwide: Bolivia, Botswana, Ecuador, Ethiopia, Ghana, Mongolia, Namibia, Nepal, Nicaragua, Oman, Pakistan, Peru, the Philippines, Samoa, Tajikistan, Thailand, Venezuela, Vietnam, and the United States. Public and private non-profit organizations meeting the provisions described in Internal Revenue Code section 26 U.S.C. 501c(3) may submit proposals to facilitate online and face-to-face exchanges between overseas schools and/or community youth organizations and counterparts in the United States.

The Global Connections and Exchange Program utilizes technology to create a U.S. presence in areas where many citizens may have little opportunity to travel or participate in exchange programs. Through web chats and discussion boards, foreign teachers, students/youths and youth leaders participate in dialogues with U.S. peers about their lives, families and communities. In addition, theme-based curriculum projects will increase understanding of issues relevant to both U.S. and overseas participants and harness their energies to effect positive change in their communities.

I. Funding Opportunity Description:

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Program Overview and Goals

Social media, communication technology and blogs offer young people opportunities to connect with peers across borders and tear down misperceptions that lead to misunderstanding. In order to harness these powerful technology tools to remove stereotypes and impel change, youth need to be better equipped to use social networking sites, interactive websites, and new technologies in a positive way.

The goal of the Global Connections and Exchange Program is to address these issues by developing a cadre of technology leaders who have been introduced to a broad range of ideas and resources through the use of information and communication technologies. By participating in this program, teachers, community youth leaders, and secondary school youth in the United States and overseas will expand their computer literacy skills, improve their general knowledge, gain a deeper understanding of diverse societies and values, and learn to better use technology in order to develop their leadership skills and influence change in their communities.

GCE also aims to build mutual understanding and respect between the people of the United States and other countries. In addition, the Program seeks to encourage respect for diversity and promote problem-solving and critical thinking among all participants.

An applicant may choose to support partnerships between schools/youth centers in the United States with schools/youth centers in two, three, or four of the countries listed in the summary, and may choose to work in countries in one world region or differing world regions. Applicants may not include countries that are not listed in this solicitation.

Program Components:

The major components of the program are as follows:

(1) Development of social networking sites or other types of interactive websites for dialogue between U.S. and overseas youth;

(2) Recruitment and selection of schools/youth centers and individual youth/teachers/community youth leaders overseas and in the United States;

(3) Conducting training for teachers, community youth leaders and others who will lead youth in electronic dialogues, themed projects, and community outreach;

(4) Guiding, encouraging, and nurturing rich, theme-based discussions among program participants;

(5) Providing participants with specialized training in digital dialogue, online media sharing, and proper online community conduct;

(6) Producing theme-based projects relevant to U.S. and overseas schools and communities;

(7) Conducting community outreach whereby participating youth and youth leaders reach out to their surrounding communities, not only to educate community members, but also to ask questions of community leaders and learn what communities are doing or failing to do with the various project themes;

(8) Coordinating recruitment and selection with the ECA program Office, Public Affairs Sections (PAS) at U.S. Embassies, and Ministries of Education, if schools are involved in the program;

(9) Managing all financial aspects of the grant;

(10) Electronically submitting monthly updates to the program office that describe current, ongoing program activities;

(11) Formulating an evaluation plan that links program outcomes to project objectives and defines concrete, observable activities that demonstrate progress to the desired result;

(12) Developing a plan for continued electronic communication among participants after the grant expires;

(13) (OPTIONAL) Planning and arranging possible exchanges/trainings for teachers and community leaders who have emerged as leaders in conducting the electronic dialogues and themed projects of participating youth;

(14) (OPTIONAL) Uniting all GCE participants.

In order to unite all GCE participants across the multiple grants that ECA will award through this FY-2011 program, applicants may propose to implement a final digital videoconference (DVC) or a series of electronic dialogues that bring together all the schools and organizations overseas and in the United States that are participating in GCE, or alternately establish a common online message board for the use of all GCE participants. In these dialogues, participants can share and recap activities and themes, and illustrate the projects that are developing or have already been developed under each grant. Approximate funding available is $5,000. Note: Only one applicant will receive funding for this project component.

Information about similar past programs can be found at: http://exchanges.state.gov/youth/programs/connections.html.

Project Themes:

Schools/youth centers overseas that are chosen to participate in GCE in collaboration with participating U.S. schools/youth centers will focus together on specific themes. Applicants may choose two or three themes, since many are interrelated. The first theme, leadership development, should be included in all projects.

Themes are as follows: (1) Leadership development, (2) environment, (3) rule of law/civic education, (4) social entrepreneurship, (5) empowering girls and young women, (6) peace education, (7) food security, (8) health. These themes are described in greater detail in the Project Objectives, Goals, and Implementation (POGI).

Organizational Capacity (including overseas partners):

Applicant organizations must demonstrate their capacity for conducting online programs, with the requisite capacity to create, monitor and evaluate a program of this nature. This includes the following elements: (1) Administrative infrastructure in the countries designated in the proposal; (2) technical expertise to create a web-based, multi-faceted curriculum focusing on outlined themes; (3) social networking expertise to monitor the website and conduct electronic dialogues, (4) programmatic experience in designing and carrying out thematic projects, and (5) experience and background in training teachers, youth leaders and students in proactive communication and interaction. An applicant organization may partner with an organization or institution to help provide the capabilities outlined above.

Applicants must clearly define and name their overseas partner organizations or associates and describe clearly what roles they will play in the project. The partner can be a branch office, local non-governmental organization, or other associates that have the demonstrated ability to conduct the specified activities in the partner country, including liaison with the U.S. embassy.

Applicants must also list the affiliated schools or youth centers that they have selected with the partner organization to participate in the electronic dialogues, the training of teachers/youth leaders, and the themed student projects. These may be secondary schools, local community youth organizations/centers, Binational Centers (BNCs), American Corners, or other organizations deemed appropriate. Proposals should indicate if the project will be conducted as part of a classroom curriculum or as an after-school, extracurricular or community activity. The Bureau urges applicants to consult with the Public Affairs Sections of the participating U.S. Embassies prior to submitting their proposal for help in vetting in-country partners and schools/youth centers. Please contact the ECA Program Officer for contact information.

Participants: Secondary school-age participants must be competitively selected to participate in the theme-focused projects, electronic dialogues, and community outreach. Depending on how the program will be implemented, students may be selected from one or more classrooms or schools, or other youth oriented community organizations.

Proposals must clearly define criteria for the selection of teachers, youth leaders, and youth. Since the social networking sites or interactive websites have the capacity of reaching large numbers and a broad spectrum of teachers, youth leaders and students from many classes, schools, and community youth organizations, the proposal must clearly describe how maximum numbers of participants will be reached and drawn in.

The training of teachers and community youth leaders who are expected to guide not only youth chosen to participate in the present projects, but also subsequent generations of students, is of paramount importance to the project.

Proposals must outline a training plan, training methodology, and timeline. Intended outcomes of the trainings must be clearly defined.

Applicants may propose to conduct exchanges for teachers/trainers/youth leaders to and/or from the United States. Proposals must describe in detail the possible exchange programs for the exchange participants. These must be two to three weeks in length and include a strong training component, but may also include visits to different schools and attendance at cultural events.

Sustainability: The applicant must provide concrete ideas and outline specific steps for maintaining contact among participating teachers, community youth leaders, and students after the program has concluded. All participants must be taught or clearly shown how to disseminate information about the program while it is ongoing and after it ends, and how in turn to teach their peers to participate in similar projects in the future. The steps applicants intend to take throughout the grant cycle that will ensure sustainability must be concrete, doable, and clearly outlined.

Program Guidelines:

The grants should begin on or about September 1, 2011, subject to availability of funds, and the grant period will be 12 to 20 months in duration. Applicants must select and name the following:

• Partner countries;

• Specific partner organizations in each country;

• Specific collaborating schools/youth centers in the United States and overseas.

Applicants must also outline their choice of themes, and present a strong justification for their choices.

Upon award, the recipient must begin to coordinate program activities with Post and ECA, keeping all involved parties informed of program activities and events.

An applicant may choose to partner with two to four countries within one world region or differing world regions. Applicants may not include countries not listed in the RFGP. For a grant with the specified minimum of two countries, the minimum grant request should be $200,000 and up to approximately $250,000. The maximum grant request is $425,000 for four countries.

The Bureau expects to award two to three grants under this competition with total funding of $850,000. Applicants may submit only one proposal. If multiple proposals are received from the same applicant, all submissions will be declared ineligible and given no further consideration in the review process.

Grant recipients must identify the program as “The Global Connections and Exchange Program (GCE)” at all times. Web sites and other materials must acknowledge the U.S. Department of State as the sponsor, with specific recognition of the Bureau of Educational and Cultural Affairs. The Bureau will retain copyright use of and be allowed to distribute materials related to this program, as appropriate.

Grants to be awarded under this competition will be based upon the quality and responsiveness of proposals to the review criteria presented later in this RFGP. The Bureau reserves the right to reduce, revise, or increase proposal budgets in accordance with the needs of the program and the availability of funds.

II. Award Information

Type of Award: Grant Agreement.

Fiscal Year Funds: 2011

Approximate Total Funding: $850,000 (pending the availability of funds)

Approximate Number of Awards: Two to three.

Floor of Award Range: $200,000.

Ceiling of Award Range: $425,000.

Anticipated Award Date: Pending availability of funds, September 1, 2011.

Anticipated Project Completion Date: 12 to 20 months after start date, to be specified by applicant.

Additional Information: The estimated cost per country is approximately $100,000 to $125,000. With more countries, per country costs should decrease.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, grantees must maintain written records to support all costs which are claimed as their contribution, as well as costs to be paid by the Federal Government. Such records are subject to audit. The basis for determining the value of cash and in-kind contributions must be in accordance with OMB Circular A-110, (Revised), Subpart C.23—Cost Sharing and Matching. In the event grantee does not provide the minimum amount of cost sharing as stipulated in the approved budget, ECA's contribution will be reduced in like proportion.

III.3. Other Eligibility Requirements:

(a.) Bureau grant guidelines require that organizations with less than four years experience in conducting international exchanges be limited to $60,000 in Bureau funding. ECA anticipates making awards in amounts exceeding $60,000 to support program and administrative costs required to implement this program. Therefore, organizations with less than four years experience in conducting international exchanges are ineligible to apply under this competition.

(b.) Proposed sub-award recipients are also limited to grant funding of $60,000 or less if they do not have four years of experience in conducting international exchanges.

(c.) Organizations may submit only one proposal (total) under this competition. If multiple proposals are received from the same applicant, all submissions will be declared technically ineligible and will be given no further consideration in the review process.

IV. Application and Submission Information

Note: Please read the complete announcement before sending inquiries or submitting proposals. Once the RFGP deadline has passed, Bureau staff may not discuss this competition with applicants until the proposal review process has been completed.

IV.1 Contact Information to Request an Application Package: Please contact Program Officer Ilo-Mai Harding at telephone 202-632-9386 or e-mail HardingIM@state.gov. Please refer to the Funding Opportunity Number (ECA/PE/C/PY-11-32) when making your request.

Alternatively, an electronic application package may be obtained from grants.gov. Please see section IV.3f for further information.

The Solicitation Package contains the Proposal Submission Instruction (PSI) document which consists of required application forms and standard guidelines for proposal preparation.

It also contains the Project Objectives, Goals and Implementation (POGI), which provides specific information, award criteria and budget instructions tailored to this competition.

Please specify Ilo-Mai Harding and refer to the Funding Opportunity Number (ECA/PE/C/PY-11-32) on all other inquiries and correspondence.

IV.2. To Download a Solicitation Package Via Internet:

The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under “Application Deadline and Methods of Submission” under the section below.

IV.3a. Applicants are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that the DUNS number is included in the appropriate box of the SF—424 which is part of the formal application package.

IV.3b. All proposals must contain an executive summary, proposal narrative and budget. Please refer to the Solicitation Package. It contains the mandatory Proposal Submission Instructions (PSI) document and the Project Objectives, Goals and Implementation (POGI) document for additional formatting and technical requirements.

IV.3c. All federal award recipients and sub-recipients must maintain current registrations in the Central Contractor Registration (CCR) database and have a Dun and Bradstreet Data Universal Numbering System (DUNS) number.

Recipients and sub-recipients must maintain accurate and up-to-date information in the CCR until all program and financial activity and reporting have been completed. All entities must review and update the information at least annually after the initial registration and more frequently if required information changes or another award is granted.

Applicants must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt Form Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If grantee organization is a private nonprofit which has not received a grant or cooperative agreement from ECA in the past three years, or if the organization received nonprofit status from the IRS within the past four years, it must submit the necessary documentation to verify nonprofit status as directed in the PSI document. Failure to do so will cause the proposal to be declared technically ineligible.

IV.3d. Please take into consideration the following information when preparing the proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grant awards under this RFGP will be third parties “cooperating with or assisting the sponsor in the conduct of the sponsor's program.” The actions of recipient organizations shall be “imputed to the sponsor in evaluating the sponsor's compliance with” 22 CFR 62.

Therefore, the Bureau expects that any organization receiving an award under this competition will render all assistance necessary to enable the Bureau to fully comply with 22 CFR 62 et seq.

The Bureau of Educational and Cultural Affairs places critically important emphasis on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62. If grantee organization has experience as a designated Exchange Visitor Program Sponsor, the applicant should discuss its record of compliance with 22 CFR 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program in order for them to obtain J-1 visas for entry into the United States. The grant recipient will be responsible for obtaining visas for the U.S. participants and for submitting appropriate information to the Bureau in a timely manner before participant travel.

A copy of the complete regulations governing the administration of Exchange Visitor (J) programs is available at http://exchanges.state.gov or from:

Office of Designation, Private Sector Programs Division, U.S. Department of State, ECA/EC/D/PS, SA-5, 5th Floor, 2200 C Street, NW., Washington, DC 20037.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process.

Proposals should reflect advancement of these goals in their program contents, to the full extent deemed feasible.

IV.3d.3. Program Monitoring and Evaluation

Proposals must include a plan to monitor and evaluate the success of the project, both as the activities unfold and at the end of the program. The Bureau recommends that proposals include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or study, or partner institutions). The evaluation plan should include indicators that measure gains in mutual understanding as well as substantive knowledge.

Successful monitoring and evaluation depend heavily on setting clear goals and outcomes at the outset of a program. An evaluation plan should include a description of project objectives, anticipated project outcomes, and how and when grantee organization intends to measure these outcomes (performance indicators). The more that outcomes are “smart” (specific, measurable, attainable, results-oriented, and placed in a reasonable time frame), the easier it will be to conduct the evaluation. It should also be clearly demonstrated how project objectives link to the goals of the program described in this RFGP.

The monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change.

We encourage a thorough assessment of the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of the monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe plans for sustainability, overall program management, staffing, school linkages and projects, reciprocal exchanges, and coordination/consultation with ECA and PAS.

IV.3e. Please take the following information into consideration when preparing the budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include the following:

(1) Stipends for U.S. and overseas educators;

(2) Small grants to support community service projects;

(3) Competitions and other types of incentives;

(4) Reciprocal exchanges for a small group of students and one educator to/from the United States.

Organizations are required to use free and existing websites for purposes of social networking and project implementation.

Please refer to the Solicitation Package for complete budget guidelines and formatting instructions.

IV.3f. Application Deadline and Methods of Submission:

Application Deadline Date: Monday, May 9, 2011.

Reference Number: ECA/PE/C/PY-11-32 .

Methods of Submission:

Applications may be submitted in one of two ways:

(1.) In hard-copy, via a nationally recognized overnight delivery service (i.e., DHL, Federal Express, UPS, Airborne Express, or U.S. Postal Service Express Overnight Mail, etc.), or

(2.) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing the submission please make sure to include one extra copy of the completed SF-424 form and place it in an envelope addressed to “ECA/EX/PM”.

The original and eight (8) copies of the application should be sent to:

Program Management Division, ECA-IIP/EX/PM, Ref.: ECA/PE/C/PY-11-32, SA-5, Floor 4, Department of State, 2200 C Street, NW., Washington, DC 20037.

With the submission of the proposal package, please also e-mail the Executive Summary, Proposal Narrative, and Budget sections of the proposal, as well as any attachments essential to understanding the program, in Microsoft Word, Excel, and/or PDF, to the program officer at HardingIM@state.gov. The Bureau will provide these files electronically to the Public Affairs Sections at the relevant U.S. Embassies for their review.

IV.3f.2—Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that applicant organizations not wait until the application deadline to begin the submission process through Grants.gov.

The Grants.gov Web site includes extensive information on all phases/aspects of the Grants.gov process, including an extensive section on frequently asked questions, located under the “For Applicants” section of the website. ECA strongly recommends that all potential applicants review thoroughly the Grants.gov website, well in advance of submitting a proposal through the Grants.gov system. ECA bears no responsibility for data errors resulting from transmission or conversion processes.

Direct all questions regarding Grants.gov registration and submission to: Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov website, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as Public Diplomacy sections overseas, where appropriate. Eligible proposals will be subject to compliance with Federal and Bureau regulations and guidelines, and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Quality of the Program Idea: Proposals should exhibit originality, substance, precision, and relevance to the Bureau's mission.

2. Program Planning/Ability to Achieve Program Objectives: Proposals should clearly convey a feasible plan that supports program goals and is relevant to the Bureau's mission. The substance of online activities should be described in detail. A detailed agenda and relevant work plan should adhere to the program overview and guidelines described above. Reviewers will evaluate how training and the curriculum will support online learning and collaboration among students/teachers/youth leaders. They will also assess how objectives will be achieved and make sure that the timetable is feasible for completion of major tasks.

3. Support of Diversity: Proposals should demonstrate substantive support of the Bureau's policy on diversity. Geographic, gender and socio-economic diversity should be reflected in the selection of schools and participants. The curriculum content should reinforce cultural diversity in the broadest sense of the term.

4. Institutional Capacity/Track Record: Proposed personnel and institutional resources in both the United States and in the partner countries should be clearly enumerated and be adequate and appropriate to achieve the program goals. Proposals should exhibit significant experience in social networking as well as implementing web-based educational projects at the high school level. Reviewers will assess the organization's institutional record of successful programs, including responsible fiscal management and full compliance with all reporting requirements as determined by the Bureau's Grants Division. The Bureau will consider the past performance of prior recipients and the demonstrated potential of new applicants.

5. Follow-On Activities: Proposals should provide a plan for continued follow-on activities (without Bureau support) ensuring that Bureau supported programs are not isolated events. Reviewers will examine ways in which social networking sites are managed and their applicability for use when funds are no longer available.

6. Project Evaluation: Proposals should include a plan to evaluate the activity's success, both as the activities unfold and at the end of the program. Draft survey questionnaires or other techniques, plus descriptions of methodologies that link outcomes to original project objectives is strongly recommended, particularly for prior grant recipients implementing similar programs. Grantee organizations are expected to submit interim reports and one final report. Organizations must also electronically submit monthly progress reports that clearly describe program activities.

7. Cost-Effectiveness/Cost sharing: The overhead and administrative components of the proposal, including salaries and honoraria, should be kept as low as possible. All other items should be necessary and appropriate. Proposals should maximize cost-sharing through other private sector support as well as institutional direct funding contributions.

VI. Award Administration Information

VI.1a. Award Notices:

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following websites for additional information: http://www.whitehouse.gov/omb/grants. http://fa.statebuy.state.gov

VI.3. Reporting Requirements: You must provide ECA with a hard copy original of the following reports plus two copies of the following reports:

(1.) A final program and financial report no more than 90 days after the expiration of the award;

(2.) A concise, one-page final program report summarizing program outcomes no more than 90 days after the expiration of the award. This one-page report will be transmitted to OMB, and be made available to the public via OMB's USAspending.gov Web site—as part of ECA's Federal Funding Accountability and Transparency Act (FFATA) reporting requirements.

(3.) A SF-PPR, “Performance Progress Report” Cover Sheet with all program reports.

(4.) Interim program and quarterly financial reports that describe program activities and progress, and funds spent.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements:

Award recipients will be required to maintain specific data on program participants and activities in an electronically accessible database format that can be shared with the Bureau, as required. As a minimum, the data must include the following:

(1) Name, address, contact information of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

(3) Information about participating schools and organizations including, but not limited to, location, demography, participating program leaders, teachers, students, and youth.

VII. Agency Contacts

For questions about this announcement, contact: Ilo-Mai Harding, Program Officer, Office of Citizen Exchanges, ECA-PE-C-PY, Room 3-H17, U.S. Department of State, SA-5, 2200 C Street, NW., Washington, DC 20037, telephone: 202-632-9386, fax number: 202-632-9355, E-mail: HardingIM@state.gov.

All correspondence with the Bureau concerning this RFGP should reference the above title and number: ECA/PE/C/PY-11-32.

Please read the complete announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 9, 2011.
Ann Stock,
Assistant Secretary for Educational and Cultural Affairs, U.S. Department of State.

[FR Doc. 2011-6297 Filed 3-16-11; 8:45 am]

BILLING CODE 4710-05-P